DEPARTMENT OF LABOR

Mine Safety and Health Administration

30 CFR Part 75

RIN 1219-AB65

Proximity Detection Systems for Continuous Mining Machines in Underground Coal Mines

AGENCY: Mine Safety and Health Administration, Labor.

ACTION: Proposed rule; scheduling of public hearing.

SUMMARY: The Mine Safety and Health Administration (MSHA) is announcing the date and location of an additional public hearing on the Agency's proposed rule addressing Proximity Detection Systems for Continuous Mining Machines in Underground Coal Mines, published on August 31, 2011.

DATES: The public hearing dates and locations are listed in the SUPPLEMENTARY INFORMATION section of this document. Comments must be received by midnight Eastern Standard Time on November 14, 2011.

ADDRESSES: Comments, requests to speak, and informational materials for the rulemaking record may be sent to MSHA by any of the following methods. Clearly identify all submissions in the subject line of the message with “RIN 1219-AB65”.

(1) Federal e-Rulemaking Portal: http://www.regulations.gov. Follow the on-line instructions for submitting comments.

(2) Electronic mail: zzMSHA-comments@dol.gov. Include “RIN 1219-AB65” in the subject line of the message.

(3) Facsimile: 202-693-9441. Include “RIN 1219-AB65” in the subject line of the message.

(4) Regular Mail: MSHA, Office of Standards, Regulations, and Variances, 1100 Wilson Boulevard, Room 2350, Arlington, Virginia 22209-3939.

(5) Hand Delivery or Courier: MSHA, Office of Standards, Regulations, and Variances, 1100 Wilson Boulevard, Room 2350, Arlington, Virginia. Sign in at the receptionist's desk on the 21st floor.

FOR FURTHER INFORMATION CONTACT: Roslyn B. Fontaine, Acting Director, Office of Standards, Regulations, and Variances, MSHA, at fontaine.roslyn@dol.gov (E-mail), 202-693-9440 (Voice), or 202-693-9441 (Fax).

SUPPLEMENTARY INFORMATION:

I. Availability of Information

MSHA published the proposed rule in the Federal Register on August 31, 2011 (76 FR 54163); it is available at http://www.regulations.gov and on MSHA's Web site at http://www.msha.gov/REGS/FEDREG/PROPOSED/2011PROP/2011-22125.PDF.

II. Public Hearings

On August 31, 2011, MSHA announced that it would hold three public hearings on its proposed rule for Proximity Detection Systems on Continuous Mining Machines in Underground Coal Mines. Due to requests from the public and to provide maximum opportunity for public participation in this rulemaking, MSHA is adding an additional public hearing. MSHA will hold an additional public hearing on October 27, 2011, in Evansville, Indiana.

The hearings will begin 9 a.m. with an opening statement from MSHA, followed by an opportunity for members of the public to make oral presentations. Persons do not have to make a written request to speak; however, persons and organizations wishing to speak are encouraged to notify MSHA in advance for scheduling purposes. MSHA requests that parties making presentations at the hearings submit them no later than five days prior to the hearing. Presentations and accompanying documentation will be included in the rulemaking record.

The hearings will be conducted in an informal manner. Formal rules of evidence or cross examination will not apply. The hearing panel may ask questions of speakers and speakers may ask questions of the hearing panel. Verbatim transcripts of the proceedings will be prepared and made a part of the rulemaking record. Copies of the transcripts will be available to the public. The transcripts may also be viewed at http://www.regulations.gov and http://www.msha.gov/tscripts.htm. MSHA will accept comments and other appropriate information for the record from any interested party, including those not presenting oral statements. Comments must be received by midnight Eastern Standard Time on November 14, 2011.

For the convenience of interested parties, the chart below includes the dates and locations of the four scheduled public hearings:

Date | Location | Contact No.
October 18, 2011 | Embassy Suites Denver, Downtown/Convention Center, 1420 Stout St., Denver, CO 80202 | 303-592-1000
October 20, 2011 | Embassy Suites Charleston, 300 Court St., Charleston, WV 25301 | 304-347-8700
October 25, 2011 | Courtyard Washington, Meadow Lands, 1800 Tanger Blvd., Washington, PA 15301 | 724-222-5620
October 27, 2011 | Fairfield Inn Evansville West, 5400 Weston Road, Evansville, Indiana 47712 | 812-429-0900

Dated: October 7, 2011.
Joseph A. Main,
Assistant Secretary of Labor, for Mine Safety and Health.

[FR Doc. 2011-26446 Filed 10-7-11; 4:15 pm]

BILLING CODE 4510-43-P